DEPARTMENT OF THE INTERIOR

National Park Service

[NPS-WASO-NAGPRA-NPS0037564; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) has completed an inventory of human remains and associated funerary objects and has determined that there is a cultural affiliation between the human remains and associated funerary objects and Indian Tribes or Native Hawaiian organizations in this notice.

DATES: Repatriation of the human remains and associated funerary objects in this notice may occur on or after April 8, 2024.

ADDRESSES: Celise Chilcote-Fricker, William S. Webb Museum of Anthropology, University of Kentucky, 1020 Export St., Lexington, KY 40504, telephone (859) 257-5124, email celise.fricker@uky.edu.

SUPPLEMENTARY INFORMATION: This notice is published as part of the National Park Service's administrative responsibilities under NAGPRA. The determinations in this notice are the sole responsibility of the WSWM, and additional information on the determinations in this notice, including the results of consultation, can be found in the inventory or related records. The National Park Service is not responsible for the determinations in this notice.

Abstract of Information Available

Based on the information available, human remains representing, at least, one individual have been reasonably identified. No associated funerary objects are present. The site 15BE06 (Petersburg) in Boone, KY was initially excavated by the University of Kentucky Program for Cultural Resource Assessment in 1990. A Fort Ancient determination for these human remains is based on the presence of shell-tempered ceramics and contact-period burial associations.

Based on the information available, human remains representing, at least, 42 individuals have been reasonably identified. The 31 associated funerary objects are one lot lithic, seven bone beads, one cannel coal pendant, one worked cannel coal, two lots ceramic, two lots charcoal, two lots faunal, two lots floatation, two limestone disks, seven projectile points, two lots shell, and two bifaces. Site 15BB12 (Buckner) in Bourbon, KY was first excavated in 1939 by the University of Kentucky Museum of Anthropology under contract to the Works Progress Administration, surface collections in 1977 by Turnbow and Hockensmith were later donated to the WSWM and then the site was excavated again in 1987 by the University of Kentucky Field School. A Fort Ancient determination for these human remains is based on the presence of wall-trench houses, and diagnostic limestone/shell-tempered ceramics and projectile points.

Based on the information available, human remains representing, at least, one individual have been reasonably identified. No associated funerary objects are present. Site 15BB45 (New Field) in Bourbon, KY was excavated in 1992 by the University of Kentucky Program for Cultural Resource Assessment. A Fort Ancient determination for these human remains is based on the presence of shell/limestone tempered ceramics characteristic of Fort Ancient occupations in eastern Kentucky and C14 dates.

Based on the information available, nine associated funerary objects are two lots faunal, two lots ceramic, two lots lithic, two lots charcoal, and one lot floatation. Site 15BK02 (Snag Creek/Sharp/Bradford) in Bracken, KY was excavated in 1984 by members of the William S. Webb Archaeological Society and University of Kentucky students. A Fort Ancient determination for these human remains is based on the presence of diagnostic Fox Farm and Madisonville ceramics and triangular projectile points, combined with C14 dates which suggest occupation between 1400 and 1500 CE.

Based on the information available, the seven associated funerary objects are one lot shell, one ceramic sherd, three shells, and two lithics. Burials from site 15BK04 (Augusta) in Bracken, KY were excavated by Louie Edwards while digging a basement at his house and donated to the WSWM in 1950. A Fort Ancient determination for these human remains is based on the presence of stone box burials, weeping-eye shell gorgets, shell-tempered sherds from a known Fort Ancient village site and C14 dates from 1290-1640 CE.

Based on the information available, human remains representing, at least, seven individuals have been reasonably identified. The 27 associated funerary objects are one turtle shell, three lots faunal, two lots lithic, two lithics, two lots shell, three lots charcoal, two lots ceramic sherds, six shells, one lot bone bead fragments, one bone bead, two shell beads, one copper bead, and one bone drift. Site 15BK06 (Augusta) in Bracken, KY was excavated in 2016 by the Kentucky Archaeological Survey as a salvage project related to residential basement excavation. A Fort Ancient determination for these human remains is based on the presence of diagnostic limestone/shell-tempered ceramics and projectile points.

Based on the information available, human remains representing, at least, six individuals have been reasonably identified. The 67 associated funerary objects are six lots ceramic sherds, six lots lithic, six lots shell fragments, three lots wood fragments, six lots charcoal, six lots faunal remains, one perforated human tooth, 26 shell beads and seven bone beads. Site 15BK200 (Augusta) in Bracken, KY was excavated in 2023 by the Kentucky Archaeological Survey salvage excavation from Augusta city infrastructure development. A Fort Ancient determination for these human remains is based on the presence of diagnostic limestone/shell-tempered ceramics and projectile points.

Based on the information available, human remains representing, at least, 23 individuals have been reasonably identified. No associated funerary objects are present. Site 15MS01 (Fox Farm/Fox Field) in Mason, KY was first surveyed, surface collected and excavated by E.S. Maxwell and William S. Webb between 1920 and 1930 and donated to the University of Kentucky Museum of Anthropology. Another excavation took place in 1969 by Maysville Community College students which was donated to the Kentucky Gateway Museum Center, who then donated it to the WSWM in 2009. Additional donations to the WSWM were made by private collectors in 1960, 1991, and 2018. Additional individuals were found in the WSWM collections in 2024. A Fort Ancient determination for these human remains is based on diagnostic ceramic types, triangular projectile points, and marine shell gorgets.

Cultural Affiliation

Based on the information available and the results of consultation, cultural affiliation is clearly identified by the information available about the human remains and associated funerary objects described in this notice.

Determinations

The WSWM has determined that:

• The human remains described in this notice represent the physical remains of 80 individuals of Native American ancestry.

• The 141 objects described in this notice are reasonably believed to have been placed intentionally with or near individual human remains at the time of death or later as part of the death rite or ceremony.

• There is a reasonable connection between the human remains and associated funerary objects described in this notice and the Absentee-Shawnee Tribe of Indians of Oklahoma; Eastern Shawnee Tribe of Oklahoma; and the Shawnee Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 8, 2024. If competing requests for repatriation are received, the WSWM must determine the most appropriate requestor prior to repatriation. Requests for joint repatriation of the human remains and associated funerary objects are considered a single request and not competing requests. The WSWM is responsible for sending a copy of this notice to the Indian Tribes and Native Hawaiian organizations identified in this notice.

Authority: Native American Graves Protection and Repatriation Act, 25 U.S.C. 3003, and the implementing regulations, 43 CFR 10.10.

Dated: February 29, 2024.
Melanie O'Brien,
Manager, National NAGPRA Program.

[FR Doc. 2024-04989 Filed 3-7-24; 8:45 am]

BILLING CODE 4312-52-P